DEPARTMENT OF COMMERCE

National Oceanic and Atmospheric Administration

[RTID 0648-XE147]

Endangered Species; File No. 27686

AGENCY: National Marine Fisheries Service (NMFS), National Oceanic and Atmospheric Administration (NOAA), Commerce.

ACTION: Notice; issuance of permit.

SUMMARY: Notice is hereby given that Hudson River Sloop Clearwater, Inc., (Clearwater) has been issued a permit for the incidental take of shortnose (Acipenser brevirostrum) and Atlantic sturgeon (A. oxyrinchus) associated with the otherwise lawful education trawl in the Hudson River.

ADDRESSES: The permit and related documents are available on the NMFS Office of Protected Resources website at: https://www.fisheries.noaa.gov/action/incidental-take-permit-hudson-river-sloop-clearwater-inc.

FOR FURTHER INFORMATION CONTACT: Steven Hughes, (301) 427-8576, steven.hughes@noaa.gov.

SUPPLEMENTARY INFORMATION: Section 9 of the Endangered Species Act (ESA) and Federal regulations prohibits the “taking” of a species listed as endangered or threatened. The ESA defines “take” to mean harass, harm, pursue, hunt, shoot, wound, kill, trap, capture, or collect, or to attempt to engage in any such conduct. NMFS may issue permits, under limited circumstances, to take listed species when the takes are incidental to, and not the purpose of, otherwise lawful activities. Section 10(a)(1)(B) of the ESA provides for authorizing incidental take of listed species. The regulations for issuing incidental take permits for threatened and endangered species are promulgated at 50 CFR 222.307.

Species Covered in This Notice

The following species are included in the conservation plan and permit application: Atlantic (Acipenser oxyrinchus) and shortnose (A. brevirostrum) sturgeon.

Background

On September 29, 2023, notice was published in the Federal Register (88 FR 67249) that a request for a permit for the incidental take of shortnose and Atlantic sturgeon associated with the otherwise lawful education trawl in the Hudson River by Clearwater, Inc. No comments were received during the 30 day public comment period. The requested permit has been issued under the authority of the ESA of 1973, as amended (16 U.S.C. 1531 et seq.) and the regulations governing the taking, importing, and exporting of endangered and threatened species (50 CFR parts 222-226).

Permit No. 27686

The permit authorizes take of ESA-listed shortnose and Atlantic sturgeon that are caught incidental to educational trawls in the Hudson River. Clearwater will not exceed take of 10 sturgeon, with 1 or more a year (combination of shortnose and Atlantic Sturgeon) over the 10 year permit. There will be one lethal take permitted over the 10 year permit.

Conservation Plan

Section 10 of the ESA specifies that no permit may be issued unless an applicant submits an adequate conservation plan. The conservation plan prepared by Clearwater describes measures designed to minimize and mitigate the impacts of any incidental take of ESA-listed shortnose sturgeon and Atlantic sturgeon. Clearwater will regularly communicate with New York State Department of Environmental Conservation to avoid known sturgeon habitat and spawning grounds. Clearwater will avoid trawling the river at Poughkeepsie and Norrie Point due to known sensitive habitat. Clearwater will use small otter trawls (38.1 × 76.2 centimeter) doors weighing 50 pounds and short tow times (≤5 minutes). Beach seines, which allow for targeted catch, will be used where practicable (e.g., away from urban areas and where tides allow). If Clearwater incidentally captures a sturgeon in its nets, it will follow protocols for safe handling and immediately release any sturgeon caught. Clearwater will maintain a detailed log of all gear sets and will submit to NMFS incidental and annual reports of incidental capture, if any, of listed sturgeon.

National Environmental Policy Act

Issuing an ESA section 10(a)(1)(B) permit constitutes a Federal action requiring NMFS to comply with the National Environmental Policy Act (42 U.S.C. 4321 et seq.) as implemented by 40 CFR parts 1500-1508 and NOAA Administrative Order 216-6, Environmental Review Procedures for Implementing the National Policy Act (1999). NMFS has determined that the activity proposed is categorically excluded from the requirement to prepare an environmental assessment or environmental impact statement. This action falls within the B3 category: issuance of, and amendments to, “low effect” Incidental Take Permits and their supporting “low effect” Habitat Conservation Plans under section 10(a)(1)(B) of the ESA. Additionally there are no extraordinary circumstances with the potential for significant environmental effects that would preclude the issuance of this permit type from being categorically excluded.

Dated: July 25, 2024.
Angela Somma,
Chief, Endangered Species Division, Office of Protected Resources, National Marine Fisheries Service.

[FR Doc. 2024-17252 Filed 8-2-24; 8:45 am]

BILLING CODE 3510-22-P